DEPARTMENT OF ENERGY

Federal Energy Regulatory Commission

[Docket No. PF06-11-000]

Quoddy Bay, LLC; Notice of Site Visit for the Proposed Quoddy Bay LNG Project

June 29, 2006.

The staff of the Federal Energy Regulatory Commission (Commission) is issuing this notice to announce the date and location of a site visit on the proposed Quoddy Bay LNG Project. The Commission staff will be preparing an environmental impact statement (EIS) for the project in Washington County, Maine. The proposed facilities include a liquified natural gas (LNG) import terminal, a LNG storage facility, dual cryogenic pipelines between the terminal and storage facility, and an associated 35-mile-long natural gas sendout pipeline. The EIS will be used by the Commission in its decision-making process to determine whether the project is in the public convenience and necessity. You are invited to attend the site visit.

The site visit will be held on Thursday, July 13, 2006. Anyone interested in participating in the site visit should meet at 9 a.m. (EST) in Quoddy Bay, LLC's parking lot on Route 190, at 95 County Road, Perry, Maine 04667. Participants must provide their own transportation, although transportation may be provided to the location of the LNG storage facility.

This event is posted on the Commission's calendar located at http://www.ferc.gov/EventCalendar/EventsList.aspx along with other related information. For additional information, please contact the Commission's Office of External Affairs at (202) 502-8004 or 1-866-208-FERC (3372).

Magalie R. Salas,
Secretary.

[FR Doc. E6-10612 Filed 7-6-06; 8:45 am]

BILLING CODE 6717-01-P